COMMISSION ON CIVIL RIGHTS

Agenda and Notice of Public Meeting of the Delaware Advisory Committee

AGENCY: Commission on Civil Rights.

ACTION: Announcement of briefing meeting.

SUMMARY: Notice is hereby given, pursuant to the provisions of the rules and regulations of the U.S. Commission on Civil Rights (Commission), and the Federal Advisory Committee Act (FACA), that a briefing meeting of the Delaware Advisory Committee to the Commission will convene at 9:00 a.m. (EDT) on Wednesday, November 1, 2017 at Widener University Delaware Law School, 4601 Concord Pike, Wilmington DE 19803-0406. The purpose of the briefing is to hear from government officials, advocates, and others on Policing in Communities of Color and Implicit Bias in Delaware.

DATES: Wednesday, November 1, 2017 (EDT).

Time: 9:00 a.m.-6:00 a.m. Briefing Meeting and Public Session.

ADDRESSES: Widener University Delaware Law School, 4601 Concord Pike, Wilmington DE 19803-0406.

FOR FURTHER INFORMATION CONTACT: Ivy Delaviez at ero@usccr.gov, or 202-376-7533.

SUPPLEMENTARY INFORMATION: If other persons who plan to attend the meeting require other accommodations, please contact Evelyn Bohor at ebohor@usccr.gov at the Eastern Regional Office at least ten (10) working days before the scheduled date of the meeting.

Time will be set aside at the end of the briefing so that members of the public may address the Committee after the formal presentations have been completed. Persons interested in the issue are also invited to December 1, 2017. Written comments may be mailed to the Eastern Regional Office, U.S. Commissionon Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at https://www.facadatabase.gov/committee/meetings.aspx?cid=240 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Tentative Agenda

Wednesday, November 1, 2017

I. Welcome and Introductions 9:00AM

II. Briefing 9:15AM to 6:00PM

Panels

III. Open Session—at the conclusion of panels

IV. Planning Meeting

V. Adjournment

Dated: September 28, 2017.
David Mussatt,
Supervisory Chief, Regional Programs Unit.

[FR Doc. 2017-21182 Filed 10-2-17; 8:45 am]

BILLING CODE 6335-01-P